DEPARTMENT OF VETERANS AFFAIRS

[OMB Control No. 2900-New (38CFR 21.7080)]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including, including each proposed new collection and allow 60 days for public comment in response to the notice. This notice solicits comments on information needed to transfer a servicemember's educational assistance benefits to his or her dependents.

DATES: Written comments and recommendations on the proposed collection of information should be received on or before September 28, 2007.

ADDRESSES: Submit written comments on the collection of information through http://www.Regulations.gov or to Nancy J. Kessinger, Veterans Benefits Administration (20M35), Department of Veterans Affairs, 810 Vermont Avenue, NW., Washington, DC 20420 or e-mail to nancy.kessinger@va.gov. Please refer to “OMB Control No. 2900-New (38CFR 21.7080)” in any correspondence. During the comment period, comments may be viewed online through the Federal Docket Management System (FDMS) at http://www.Regulations.gov.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Evidence for Transfer of Entitlement of Education Benefits (CFR 21.7080).

OMB Control Number: 2900-New (38CFR 21.7080).

Type of Review: New collection.

Abstract: Servicemembers on active duty may request to designate up to a maximum of 18 months of their educational assistance entitlement to their spouse, one or more of their children, or a combination of the spouse and children. VA will accept DOD Form 2366-1 as evidence that the servicemember was approved by the military to transfer entitlement. The servicemember must submit in writing to VA, the name of each dependent, the number of months of entitlement transferred to each dependent, and the period (beginning date or ending date) for which the transfer will be effective for each designated dependent. VA will use the information shown on DOD Form 2366-1 to determine whether the dependent qualifies to receive education benefits under the transfer of entitlement provision of law.

Affected Public: Individuals or households.

Estimated Annual Burden: 2.

Estimated Average Burden Per Respondent: 5 minutes.

Frequency of Response: Once.

Estimated Number of Respondents: 24.

Dated: July 18, 2007.
By direction of the Secretary.
Denise McLamb,
Program Analyst, Records Management Service.

[FR Doc. E7-14661 Filed 7-27-07; 8:45 am]

BILLING CODE 8320-01-P